DEPARTMENT OF TRANSPORTATION

Surface Transportation Board

[STB Finance Docket No. 34402]

Iowa Northern Railway Company—Operation Exemption—Rail Lines of D&W Railroad, Inc.

Iowa Northern Railway Company (INAR), a Class III rail carrier, has filed a verified notice of exemption under 49 CFR 1150.41 to operate approximately 51.95 miles of rail line, including incidental trackage rights, known as the Waterloo Industrial Lead, pursuant to an operating agreement with D&W Railroad, Inc. (D&W). The lines to be operated are located in Black Hawk, Buchanan and Fayette Counties, IA, as follows: (1) Between milepost 332.0 at Dewar, IA, and milepost 354.3 at Oelwein, IA; (2) between milepost 245.58 and milepost 245.0 at Oelwein; (3) .32 miles of wye track at Oelwein; (4) 23 miles of yard track at Oelwein; and (5) incidental trackage rights over Union Pacific Railroad Company's track between milepost 332.0 at Dewar and milepost 326.2 at Linden Street, Waterloo, IA. INAR certifies that its projected revenues as a result of this transaction will not exceed those that would qualify it as a Class III rail carrier.

INAR reported that the parties intend to consummate the transaction on or soon after September 26, 2003.

This transaction is related to a concurrently filed verified notice of exemption in STB Finance Docket No. 34401, D&W Railroad, Inc.—Acquisition Exemption—Rail Lines of Union Pacific Railroad Company, wherein D&W seeks to acquire the above-described rail lines.

If the notice contains false or misleading information, the exemption is void ab initio. Petitions to revoke the exemption under 49 U.S.C. 10502(d) may be filed at any time. The filing of a petition to revoke will not automatically stay the transaction.

An original and 10 copies of all pleadings, referring to STB Finance Docket No. 34402, must be filed with the Surface Transportation Board, 1925 K Street, NW., Washington, DC 20423-0001. In addition, one copy of each pleading must be served on Thomas F. McFarland, 208 South LaSalle Street, Suite 1890, Chicago, IL 60604-1112.

Board decisions and notices are available on our Web site at http://www.stb.dot.gov.

Decided: October 1, 2003.
By the Board, David M. Konschnik, Director, Office of Proceedings.
Vernon A. Williams,
Secretary.

[FR Doc. 03-25503 Filed 10-7-03; 8:45 am]

BILLING CODE 4915-00-P